EQUAL EMPLOYMENT OPPORTUNITY COMMISSION

Privacy Act of 1974; Publication of Notice of Proposed New Systems of Records and Amendment of Systems To Add New System Managers

AGENCY: Equal Employment Opportunity Commission.

ACTION: Notice; publication of notice of proposed new systems of records and amendment of systems to add new system managers and new routine uses.

SUMMARY: This notice proposes two new systems of records, amends three existing systems of records to include a new system manager, amends one existing system to add two new routine uses and amends Appendix A to reflect current office names and addresses.

DATES: The changes to the existing systems of records are effective on April 26, 2006. The proposed new systems of records and routine uses will become effective, without further notice, on June 26, 2006 unless comments dictate otherwise.

ADDRESSES: Written comments may be sent to the Office of Executive Secretariat, Equal Employment Opportunity Commission, Room 10402, 1801 L Street, NW., Washington, DC 20507. Copies of this notice are available in the following alternate formats: large print, braille, electronic file on computer disk, and audio-tape. Copies may be obtained from the Publications Center by calling 1-800-699-3362.

FOR FURTHER INFORMATION CONTACT: Thomas J. Schlageter, Assistant Legal Counsel (202) 663-4668 (voice) or Kathleen Oram, Senior Attorney (202) 663-4681 (voice) or (202) 663-7026 (TDD).

SUPPLEMENTARY INFORMATION: The Equal Employment Opportunity Commission recently implemented a new electronic tracking system for its employment discrimination charge data. As part of that implementation, the Commission is amending three existing systems of records, EEOC-1, Age and Equal Pay Act Discrimination Case Files, EEOC-3, Title VII and Americans With Disabilities Act Discrimination Case Files, and EEOC/GOVT-1, Equal Employment Opportunity in the Federal Government Complaint and Appeal Records, to add the Director of the Office of Field Programs as a system manager. This addition provides a Headquarters system manager for EEOC-1 and EEOC-3 who will address questions concerning access to tracking data at EEOC headquarters. In addition, the Director of the Office of Field Programs has managerial authority over the federal sector hearings process at EEOC, and is added as a system manager in EEOC/GOVT-1 of the hearings records and the hearings data in the new database.

The Commission proposes to add two new routine uses to EEOC-16, Office of Inspector General Investigative Files. The President's Council on Integrity and Efficiency (PCIE) and the Executive Council on Integrity and Efficiency (ECIE) are establishing peer review processes that are designed to provide qualitative measurement against the Inspector General community standards to ensure that adequate internal and management procedures are maintained. The peer reviews are designed to foster high quality investigations and investigative processes and promote consistency in investigative standards and practices within the Inspector General community. EEOC's Office of Inspector General intends to participate in the peer review processes. Proposed routine use g. would allow disclosure of information to authorized officials within the PCIE, the ECIE, the Department of Justice and the Federal Bureau of Investigation for the purpose of conducting qualitative assessment reviews of the Office of Inspector General's investigative operations. Proposed routine use h. would allow the disclosure of information to the PCIE and the ECIE for their preparation of reports to the President and Congress on the activities of the Inspectors General.

The Commission proposes to add a new system of records, EEOC-19, Revolving Fund Registrations. The Commission's Revolving Fund was established by Congress to permit EEOC to provide equal employment opportunity training and technical assistance at cost to employers and individuals and use the proceeds for further training and technical assistance. The Revolving Fund proposes to keep a database of information about the persons who have attended its training or technical assistance programs. The registration information is used by Revolving Fund staff for the program in connection with which it was received and for mailings about future programs. Three routine uses are proposed for the new system.

The Commission also proposes to add a new system of records, EEOC-20, RESOLVE Program Records. RESOLVE is EEOC's internal alternative dispute resolution program. The RESOLVE Program provides a forum to EEOC employees for the informal resolution of a variety of workplace disputes as an alternative to the procedures that employees traditionally use to resolve disputes, such as the EEO complaint process and the negotiated and administrative grievance procedures. RESOLVE covers a variety of common workplace disputes and issues, such as terms and conditions of employment, requests for reasonable accommodation and allegations of employment discrimination. Three routine uses are proposed for this new system.

The proposed routine uses for EEOC-16, Office of Inspector General Investigative Files, and the two proposed new systems of records meet the compatibility criteria since the information involved is collected for the purpose of the applicable routine uses. We anticipate that any disclosure pursuant to these routine uses will not result in any unwarranted adverse effects on personal privacy.

Finally, the Commission has amended Appendix A to reflect the current names and addresses of its offices in the field.

For the Commission.
Cari M. Dominguez,
Chair.

Accordingly, it is proposed that:

1. EEOC-1, Age and Equal Pay Act Discrimination Case Files, most recently published at 67 FR 49338, 49339 (July 30, 2002), is amended as set forth below.

* * * * *

SYSTEM MANAGER(S) AND ADDRESS:

Director of the office in the field where the charge was filed (see Appendix A). Director of the Office of Field Programs, 1801 L Street, NW., Washington, DC 20507. Director of the Office of Federal Operations, 1801 L Street, NW., Washington, DC 20507 (only for complaints filed under section 321 of the Government Employees Right Act of 1991).

2. EEOC-3, Title VII and Americans With Disabilities Act Discrimination Case Files, most recently published at 67 FR 49338, 49341 (July 30, 2002), is amended as set forth below.

* * * * *

SYSTEM MANAGER(S) AND ADDRESS:

Director of the office in the field where the charge was filed (see Appendix A). Director of the Office of Field Programs, 1801 L Street, NW., Washington, DC 20507.

3. EEOC-16, Office of Inspector General Investigative Files, most recently published at 67 FR 49338, 49351 (July 30, 2002), is amended as set forth below.

* * * * *

ROUTINE USES OF RECORDS MAINTAINED IN THE SYSTEM, INCLUDING CATEGORIES OF USERS AND THE PURPOSES OF SUCH USES:

* * * * *

g. To disclose information to authorized officials of the President's Council on Integrity and Efficiency (PCIE) and the Executive Council on Integrity and Efficiency (ECIE), the Department of Justice, and the Federal Bureau of Investigation for the purpose of conducting qualitative assessment reviews of the Office of Inspector General's investigative operations.

h. To disclose information to authorized officials of the PCIE and the ECIE for their preparation of reports to the President and the Congress on the activities of the Inspectors General.

4. EEOC/GOVT-1, Equal Employment Opportunity in the Federal Government Complaint and Appeal Records, most recently published at 67 FR 49338, 49354 (July 30, 2002), is amended as set forth below.

SYSTEM MANAGER(S) AND ADDRESS:

Within the agency or department where the complaint of discrimination was filed, the system manager is the Director of the Office of Equal Employment Opportunity or other official designated as responsible for the administration and enforcement of equal employment opportunity laws and regulations within the agency or department.

Where an individual has requested a hearing, the system manager of hearing records is the Director of the Office of Field Programs, 1801 L Street, NW., Washington, DC 20507.

Where an EEO complaint or final negotiated grievance decision has been appealed to EEOC or an individual has petitioned EEOC for review of a decision of the Merit Systems Protection Board, the system manager of the appeal or petition file is the Director, Office of Federal Operations, 1801 L Street, NW., Washington, DC.

5. EEOC-19, Revolving Fund Registrations, is added as set forth below:

EEOC-19

SYSTEM NAME:

Revolving Fund Registrations.

SYSTEM LOCATION:

Revolving Fund Division, Office of Field Programs, Equal Employment Opportunity Commission, 1801 L Street, NW., Washington, DC 20507.

CATEGORIES OF INDIVIDUALS COVERED BY THE SYSTEM:

Individuals who register for or attend EEOC Revolving Fund programs, courses and conferences and who purchase publications and products.

CATEGORIES OF RECORDS IN THE SYSTEM:

The system contains the names, job titles, company, organization or agency names, business addresses and phone numbers, email addresses, any reasonable accommodation requested, and attendance or purchase dates. Some of the records may contain payment information, the industry of the company, and the size of the establishment.

AUTHORITY FOR MAINTENANCE OF THE SYSTEM:

42 U.S.C. 2000e-4(k).

PURPOSE(S):

These records are maintained for the purpose of administering Revolving Fund programs and publicizing future programs.

ROUTINE USES OF RECORDS MAINTAINED IN THE SYSTEM, INCLUDING CATEGORIES OF USERS AND THE PURPOSES OF SUCH USES:

These records and information in these records may be used to:

a. Send mailings to registrants and attendees advertising future Revolving Fund programs.

b. To provide information to a congressional office from the record of the individual in response to an inquiry from that congressional office made at the request of that individual.

c. To disclose information to another federal agency, to a court, or to a party in litigation before a court or in an administrative proceeding being conducted by a federal agency when the government is a party to the judicial or administrative proceeding.

POLICIES AND PRACTICES FOR STORING, RETRIEVING, ACCESSING, RETAINING, AND DISPOSING OF RECORDS IN THE SYSTEM:

STORAGE:

These records are maintained in a computer database.

RETRIEVABILITY:

These records are indexed by the names of the registrants or attendees and by company, organization or agency name.

SAFEGUARDS:

Access to and use of these records is limited, through use of access codes and entry logs, to those whose official duties require access.

RETENTION AND DISPOSAL:

These records are kept in the computer database indefinitely.

SYSTEM MANAGER AND ADDRESS:

Director, Revolving Fund Division, Office of Field Programs, Equal Employment Opportunity Commission, 1801 L Street, NW., Washington, DC 20507.

NOTIFICATION PROCEDURE:

Inquiries concerning this system of records should be addressed to the system manager. All inquiries should furnish the full name of the individual and the mailing address to which the reply should be mailed.

RECORD ACCESS PROCEDURES:

Same as above.

CONTESTING RECORDS PROCEDURES:

Same as above.

RECORD SOURCE CATEGORIES:

Information contained in this system is obtained from the registrant or attendee.

6. EEOC-20, RESOLVE Program Records, is added as set forth below:

EEOC-20

SYSTEM NAME:

RESOLVE Program Records.

SYSTEM LOCATION:

Office of the Chief Mediation Officer, Equal Employment Opportunity Commission, 1801 L Street, NW., Washington, DC 20507.

CATEGORIES OF INDIVIDUALS COVERED BY THE SYSTEM:

EEOC employees and applicants who request alternative dispute resolution during the counseling or investigative process of their EEO complaints against EEOC and EEOC employees who contact the RESOLVE program for alternative dispute resolution of disputes occurring in their EEOC employment.

CATEGORIES OF RECORDS IN THE SYSTEM:

The system contains the records generated in the course of receiving and attempting to resolve disputes brought to the RESOLVE program, including, as appropriate, intake interview notes, mediation scheduling notices, the mediator's outcome form, and settlement agreements.

AUTHORITY FOR MAINTENANCE OF THE SYSTEM:

5 U.S.C. 571-574; 44 U.S.C. 3101; 29 CFR part 1614.

PURPOSE(S)

These records are maintained for the purpose of administering EEOC's RESOLVE Program, which provides a forum for the informal resolution of a variety of workplace disputes as an alternative to the formal procedures that employees traditionally use to resolve disputes.

ROUTINE USES OF RECORDS MAINTAINED IN THE SYSTEM, INCLUDING CATEGORIES OF USERS AND THE PURPOSES OF SUCH USES:

These records and information in these records may be used to:

a. To disclose pertinent information to the appropriate federal, state or local agency responsible for investigating, prosecuting, enforcing, or implementing a statute, rule, regulation, or order, when the EEOC becomes aware of an indication of a violation or potential violation of civil or criminal law or regulation.

b. To provide information to a congressional office from the record of the individual in response to an inquiry from that congressional office made at the request of that individual.

c. To disclose information to another federal agency, to a court, or to a party in litigation before a court or in an administrative proceeding being conducted by a federal agency when the government is a party to the judicial or administrative proceeding.

POLICIES AND PRACTICES FOR STORING, RETRIEVING, ACCESSING, RETAINING, AND DISPOSING OF RECORDS IN THE SYSTEM:

STORAGE:

These records are maintained in file folders and on a computer database.

RETRIEVABILITY:

These records are indexed by the names of the employee or applicant.

SAFEGUARDS:

The records are maintained in locked metal filing cabinets to which only authorized personnel have access. Access to and use of computerized records is limited, through use of access codes and entry logs, to those whose official duties require access.

RETENTION AND DISPOSAL:

These records are maintained for one year after the complaint or dispute matter brought to RESOLVE is closed and then transferred to the Federal Records Center where they are destroyed after three years.

SYSTEM MANAGER AND ADDRESS:

Chief Mediation Officer, Equal Employment Opportunity Commission, 1801 L Street, NW., Washington, D.C. 20507.

NOTIFICATION PROCEDURE:

Inquiries concerning this system of records should be addressed to the system manager. All inquiries should furnish the full name of the individual and the mailing address to which the reply should be mailed.

RECORD ACCESS PROCEDURES:

Same as above.

CONTESTING RECORDS PROCEDURES:

Same as above.

RECORD SOURCE CATEGORIES

Information contained in this system is obtained from the employee or applicant, the Office of Equal Opportunity, and the mediator.

Appendix A:

U.S. EEOC Albuquerque Area Office (Phoenix District), 505 Marquette, NW., Suite 900, Albuquerque, NM 87102.

U.S. EEOC Atlanta District Office, 100 Alabama Street, SW., Suite 4R30, Atlanta, GA 30303.

U.S. EEOC Baltimore Field Office (Philadelphia District), City Crescent Building, 10 South Howard Street, 3rd Floor, Baltimore, MD 21201.

U.S. EEOC Birmingham District Office, Ridge Park Place, 1130 22nd Street South (Suite 2000), Birmingham, AL 35205-2397.

U.S. EEOC Boston Area Office (New York District), John F. Kennedy Federal Building, Government Center, Fourth Floor, Room 475, Boston, MA 02203-0506.

U.S. EEOC Buffalo Local Office (New York District), 6 Fountain Plaza, Suite 350, Buffalo, NY 14202.

U.S. EEOC Charlotte District Office, 129 West Trade Street, Suite 400, Charlotte, NC 28202.

U.S. EEOC Chicago District Office, 500 West Madison Street, Suite 2800, Chicago, IL 60661.

U.S. EEOC Cincinnati Area Office (Indianapolis District), 550 Main Street, Suite 10019, Cincinnati, OH 45202-5202.

U.S. EEOC Cleveland Field Office (Philadelphia District), 1240 E. 9th Street, Suite 3001, Cleveland, OH 44199.

U.S. EEOC Dallas District Office, 207 S. Houston Street, 3rd Floor, Dallas, TX 75202-4726.

U.S. EEOC Denver Field Office (Phoenix District), 303 E. 17th Avenue, Suite 510, Denver, CO 80203.

U.S. EEOC Detroit Field Office (Indianapolis District), 477 Michigan Avenue, Room 865, Detroit, MI 48226-2523.

U.S. EEOC El Paso Area Office (Dallas District), 300 East Main Street (Suite 500), El Paso, TX 79901-1331.

U.S. EEOC Fresno Local Office (Los Angeles District), 1265 West Shaw Avenue, Suite 103 Fresno, CA 93711.

U.S. EEOC Greensboro Local Office (Charlotte District), 2303 West Meadowview Road (Suite 201), Greensboro, NC 27405.

U.S. EEOC Greenville Local Office (Charlotte District), 301 North Main Street (Suite 1402) Greenville, SC 29601.

U.S. EEOC Honolulu Local Office (Los Angeles District), 300 Ala Moana Boulevard, Room 7-127, PO Box 50082, Honolulu, HI 96850-0051.

U.S. EEOC Houston District Office, 1919 Smith Street, 7th Floor, Houston, TX 77002-8049.

U.S. EEOC Indianapolis District Office, 101 West Ohio Street, Suite 1900, Indianapolis, IN 46204-4203.

U.S. EEOC Jackson Area Office (Birmingham District), 100 West Capitol Street (Suite 207), Jackson, MS 39269.

U.S. EEOC Kansas City Area Office (St. Louis District), 400 State Avenue, Suite 905, Kansas City, KS 66101.

U.S. EEOC Little Rock Area Office (Memphis District), 820 Louisiana Street, Suite 200, Little Rock, AR 72201.

U.S. EEOC Los Angeles District Office, 255 E. Temple Street, 4th Floor, Los Angeles, CA 90012.

U.S. EEOC Louisville Area Office (Indianapolis District), 600 Dr. Martin Luther King Jr. Place, Suite 268, Louisville, KY 40202.

U.S. EEOC Memphis District Office, 1407 Union Avenue, Suite 621, Memphis, TN 38104.

U.S. EEOC Miami District Office, One Biscayne Tower, 2 South Biscayne Boulevard, Suite 2700, Miami, FL 33131.

U.S. EEOC Milwaukee Area Office (Chicago District), 310 West Wisconsin Avenue, Suite 800, Milwaukee, WI 53203-2292.

U.S. EEOC Minneapolis Area Office (Chicago District), 330 South Second Avenue, Suite 430, Minneapolis, MN 55401-2224.

U.S. EEOC Nashville Area Office (Memphis District), 50 Vantage Way, Suite 202, Nashville, TN 37228-9940.

U.S. EEOC Newark Area Office (New York District), 1 Newark Center, 21st Floor, Newark, NJ 07102-5233.

U.S. EEOC New Orleans Field Office (Houston District), 701 Loyola Avenue, Suite 600, New Orleans, LA 70113-9936.

U.S. EEOC New York District Office, 33 Whitehall Street, 5th Floor, New York, NY 10004.

U.S. EEOC Norfolk Local Office (Charlotte District), Federal Building, 200 Granby Street (Suite 739), Norfolk, VA 23510.

U.S. EEOC Oakland Local Office (San Francisco District), 1301 Clay Street, Suite 1170-N, Oakland, CA 94612-5217.

U.S. EEOC Oklahoma City Area Office (St. Louis District), 210 Park Avenue, Suite 1350, Oklahoma City, OK 73102.

U.S. EEOC Philadelphia District Office, 21 South 5th Street, Suite 400, Philadelphia, PA 19106-2515.

U.S. EEOC Phoenix District Office, 3300 N. Central Avenue, Suite 690, Phoenix, AZ 85012-2504.

U.S. EEOC Pittsburgh Area Office (Philadelphia District), 1001 Liberty Avenue, Suite 300, Pittsburgh, PA 15222-4187.

U.S. EEOC Raleigh Area Office (Charlotte District), 1309 Annapolis Drive, Raleigh, NC 27608-2129.

U.S. EEOC Richmond Local Office (Charlotte District), 830 East Main Street (Suite 600), Richmond, VA 23219.

U.S. EEOC San Antonio Field Office (Dallas District), 5410 Fredericksburg Road, Suite 200, San Antonio, TX 78229-3555.

U.S. EEOC San Diego Local Office (Los Angeles District), 401 B Street (Suite 510), San Diego, CA 92101.

U.S. EEOC San Francisco District Office, 350 Embarcadaro (Suite 500), San Francisco, CA 94105-1687.

U.S. EEOC San Jose Local Office (San Francisco District), 96 North 3rd Street (Suite 200), San Jose, CA 95112.

U.S. EEOC San Juan Local Office (Miami District), 525 F.D. Roosevelt Ave., Plazas Las Americas, Suite 1202, San Juan, Puerto Rico 00918-8001.

U.S. EEOC Savannah Local Office (Atlanta District), 410 Mall Boulevard, Suite G, Savannah, GA 31406-4821.

U.S. EEOC Seattle Field Office (San Francisco District), Federal Office Building, 909 First Avenue (Suite 400), Seattle, WA 98104-1061.

U.S. EEOC St. Louis District Office, Robert A. Young Building, 1222 Spruce Street, Room 8.100, St. Louis, MO 63103.

U.S. EEOC Tampa Field Office (Miami District), 501 East Polk Street (Room 1000), Tampa, FL 33602.

U.S. EEOC Washington Field Office, 1801 L Street, NW., Suite 100, Washington, DC 20507.

[FR Doc. E6-6232 Filed 4-25-06; 8:45 am]

BILLING CODE 6570-01-P